DEPARTMENT OF LABOR

Employment and Training Administration

[TA-W-59,711]

KPMG LLP, Employed On-Site at Bearing Point, Inc.; Charlotte, NC; Dismissal of Application for Reconsideration

Pursuant to 29 CFR 90.18(C) an application for administrative reconsideration was filed with the Director of the Division of Trade Adjustment Assistance for workers at KPMG LLP, Employed On-Site at Bearing Point, Inc., Charlotte, North Carolina. The application did not contain new information supporting a conclusion that the determination was erroneous, and also did not provide a justification for reconsideration of the determination that was based on either mistaken facts or a misinterpretation of facts or of the law. Therefore, dismissal of the application was issued.

TA-W-59,711; KPMG LLP, Employed On-Site at Bearing Point, Inc., Charlotte, North Carolina, (September 22, 2006).

Signed at Washington, DC, this 25th day of September 2006.
Linda G. Poole,
Certifying Officer, Division of Trade Adjustment Assistance.

[FR Doc. E6-16101 Filed 9-29-06; 8:45 am]

BILLING CODE 4510-30-P